DEPARTMENT OF COMMERCE

International Trade Administration

[C-570-963]

Certain Potassium Phosphate Salts From the People's Republic of China: Postponement of Preliminary Determination in the Countervailing Duty Investigation

AGENCY: Import Administration, International Trade Administration, Department of Commerce.

FOR FURTHER INFORMATION CONTACT: Andrew Huston or Mark Hoadley, AD/CVD Operations, Office 6, Import Administration, International Trade Administration, U.S. Department of Commerce, 14th Street and Constitution Avenue, NW, Washington, DC 20230; telephone: (202) 482-4261 and (202) 482-3148, respectively.

SUPPLEMENTARY INFORMATION:

Background

On October 14, 2009, the Department of Commerce (the Department) initiated the countervailing duty investigation of certain sodium and potassium phosphate salts from the People's Republic of China. See Certain Sodium and Potassium Phosphate Salts From the People's Republic of China: Initiation of Countervailing Duty Investigation, 74 FR 54778 (October 23, 2009). Currently, the preliminary determination is due no later than December 18, 2009.

Postponement of Due Date for the Preliminary Determination

Section 703(b)(1) of the Tariff Act of 1930, as amended (the Act), requires the Department to issue the preliminary determination in a countervailing duty investigation within 65 days after the date on which the Department initiated the investigation. However, the Department may postpone making the preliminary determination until no later than 130 days after the date on which the administering authority initiated the investigation if, among other reasons, the petitioner makes a timely request for an extension pursuant to section 703(c)(1)(A) of the Act. In the instant investigation, the petitioners, ICL Performance Products LP and Prayon, Inc., made a timely request on November 20, 2009, requesting that the Department postpone the preliminary countervailing duty determination. See 19 CFR 351.205(e) and the petitioners' November 20, 2009, letter requesting postponement of the preliminary determination.

Therefore, pursuant to the discretion afforded the Department under 703(c)(1)(A) of the Act and because the Department does not find any compelling reason to deny the request, we are extending the due date for the preliminary determination to no later than 130 days after the date on which this investigation was initiated (i.e., to February 21, 2010). However, February 21, 2010 falls on a Sunday, and it is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for the completion of the preliminary determination is now February 22, 2010, the first business day after the 130th day from initiation.

This notice is issued and published pursuant to section 703(c)(2) of the Act and 19 CFR 351.205(f)(l).

Dated: November 25, 2009.
Ronald K. Lorentzen,
Deputy Assistant Secretary for Import Administration.

[FR Doc. E9-29003 Filed 12-3-09; 8:45 am]

BILLING CODE 3510-DS-S